ENVIRONMENTAL PROTECTION AGENCY

[ER-FRL-9053-7]

Environmental Impact Statements; Notice of Availability

Responsible Agency: Office of Federal Activities, General Information 202-564-5632 or https://www.epa.gov/nepa.

Weekly receipt of Environmental Impact Statements (EIS)

Filed October 26, 2020 10 a.m. EST Through November 2, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200217, Final, USFS, CO, Pike & San Isabel National Forests Motorized Travel Management (MVUM) Analysis, Review Period Ends: 12/21/2020, Contact: John Dow 719-250-5311.

EIS No. 20200218, Draft, TREAS, MD, Construction and Operation of a Currency Production Facility, Comment Period Ends: 12/21/2020, Contact: Chuck Davis 202-578-8507.

EIS No. 20200219, Draft, AZDOT, FHWA, AZ, Sonoran Corridor Tier 1 Environmental Impact Statement, Comment Period Ends: 01/08/2021, Contact: Ammon Heier 602-382-8983.

EIS No. 20200220, Final, USFWS, OR, Deschutes Basin Habitat Conservation Plan, Review Period Ends: 12/07/2020, Contact: Bridget Moran 541-383-7146.

Amended Notice

EIS No. 20200196, Final, FTA, CA, Final Environmental Impact Statement/Final Environmental Impact Report (Vol. 1) for the East San Fernando Valley Transit Corridor Project, Review Period Ends: 11/17/2020, Contact: Ms. Charlene Lee Lorenzo 213-202-3952.

Revision to FR Notice Published 10/02/2020; Extending the Comment Period from 11/02/2020 to 11/17/2020.

Dated: November 2, 2020.
Candi Schaedle,
Acting Director, NEPA Compliance Division, Office of Federal Activities.

[FR Doc. 2020-24695 Filed 11-5-20; 8:45 am]

BILLING CODE 6560-50-P